DEPARTMENT OF HOMELAND SECURITY

Federal Emergency Management Agency

[Docket ID FEMA-2018-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive, officer of community | Community map repository | Date of modification | Community No.
Alabama:
Houston (FEMA Docket No.: B-1770) | City of Dothan, (17-04-1523P) | The Honorable Mike Schmitz, Mayor, City of Dothan, 126 North Saint Andrews Street, Suite 201, Dothan, AL 36303 | City Hall, 126 North Saint Andrews Street, Suite 201, Dothan, AL 36303 | Mar. 9, 2018 | 010104
Shelby (FEMA Docket No.: B-1770) | City of Helena, (17-04-6802P) | The Honorable Mark R. Hall, Mayor, City of Helena, 816 Highway 52E, Helena, AL 35080 | City Hall, 816 Highway 52E, Helena, AL 35080 | Mar. 8, 2018 | 010294
Shelby (FEMA Docket No.: B-1770) | City of Hoover, (17-04-6802P) | The Honorable Frank Brocato, Mayor, City of Hoover, 100 Municipal Drive, Hoover, AL 35216 | City Hall, 100 Municipal Drive, Hoover, AL 35216 | Mar. 8, 2018 | 010123
Shelby (FEMA Docket No.: B-1770) | City of Pelham, (17-04-7130P) | The Honorable Gary W. Waters, Mayor, City of Pelham, 3162 Pelham Parkway, Pelham, AL 35124 | City Hall, 3162 Pelham Parkway, Pelham, AL 35124 | Mar. 1, 2018 | 010193
Shelby (FEMA Docket No.: B-1770) | Unincorporated Areas of Shelby County, (17-04-6802P) | The Honorable Jon Parker, Chairman, Shelby County Commission, P.O. Box 467, Columbiana, AL 35051 | Shelby County Engineering Department, 506 Highway 70, Columbiana, AL 35051 | Mar. 8, 2018 | 010191
Arkansas: Benton, (FEMA Docket No.: B-1770) | City of Rogers, (17-06-3502P) | The Honorable Greg Hines, Mayor, City of Rogers, 301 West Chestnut Street, Rogers, AR 72756 | Jefferson County Land Development Department, 716 Richard Arrington, Jr. Boulevard North, Birmingham, AL 35203 | Mar. 2, 2018 | 050013
Colorado:
Arapahoe, (FEMA Docket No.: B-1770) | City of Centennial, (17-08-0785P) | The Honorable Cathy Noon, Mayor, City of Centennial, 13133 East Arapahoe Road, Centennial, CO 80112 | Southeast Metro Stormwater Authority, 7437 South Fairplay Street, Centennial, CO 80112 | Mar. 23, 2018 | 080315
Boulder, (FEMA Docket No.: B-1770) | City of Lafayette, (17-08-0625P) | The Honorable Christine Berg, Mayor, City of Lafayette, 1290 South Public Road, Lafayette, CO 80026 | City Hall, 1290 South Public Road, Lafayette, CO 80026 | Mar. 8, 2018 | 080026
Boulder, (FEMA Docket No.: B-1770) | Unincorporated areas of Boulder County, (17-08-0625P) | The Honorable Deb Gardner, Chair, Boulder County Board of Commissioners, P.O. Box 471, Boulder, CO 80306 | Boulder County Transportation Department, 2525 13th Street, Suite 203, Boulder, CO 80304 | Mar. 8, 2018 | 080026
El Paso, (FEMA Docket No.: B-1767) | City of Fountain, (17-08-0459P) | Mr. Scott Trainor, Manager, City of Fountain, 116 South Main Street, Fountain, CO 80817 | Planning Department, 116 South Main Street, Fountain, CO 80817 | Mar. 2, 2018 | 080061
El Paso, (FEMA Docket No.: B-1767) | Unincorporated areas of El Paso County, (17-08-0459P) | The Honorable Darryl Glenn, President, El Paso County Board of Commissioners, 200 South Cascade Avenue, Suite 100, Colorado Springs, CO 80903 | El Paso County Planning and Community Development Department, 2880 International Circle, Suite 110, Colorado Springs, CO 80910 | Mar. 2, 2018 | 080059
Larimer, (FEMA Docket No.: B-1767) | City of Fort Collins, (16-08-1356P) | The Honorable Wade Troxell, Mayor, City of Fort Collins, P.O. Box 580, Fort Collins, CO 80522 | Stormwater Utilities Department, 700 Wood Street, Fort Collins, CO 80521 | Feb. 26, 2018 | 080102
Florida:
Broward, (FEMA Docket No.: B-1770) | Town of Hillsboro Beach, (17-04-4804P) | The Honorable Deborah Tarrant, Mayor, Town of Hillsboro Beach, 1210 Hillsboro Mile, Hillsboro Beach, FL 33062 | Building Department, 1210 Hillsboro Mile, Hillsboro Beach, FL 33062 | Mar. 19, 2018 | 120040
Broward, (FEMA Docket No.: B-1770) | Unincorporated areas of Broward County, (17-04-4804P) | The Honorable Barbara Sharief, Mayor, Broward County Board of Commissioners, 115 South Andrews Avenue, Room 520, Ft. Lauderdale, FL 33301 | Broward County Environmental Engineering and Permitting Division, 1 North University Drive, Ft. Lauderdale, FL 33324 | Mar. 19, 2018 | 125093
Charlotte, (FEMA Docket No.: B-1767) | Unincorporated areas of Charlotte County, (17-04-6576P) | The Honorable Bill Truex, Chairman, Charlotte County Board of Commissioners, 18500 Murdock Circle, Suite 536, Port Charlotte, FL 33948 | Charlotte County Community Development Department, 18500 Murdock Circle Port Charlotte, FL 33948 | Feb. 28, 2018 | 120061
Collier, (FEMA Docket No.: B-1770) | City of Marco Island, (17-04-6180P) | The Honorable Larry Honig, Chairman, City of Marco Island Council, 50 Bald Eagle Drive, Marco Island, FL 34145 | Building Department, 50 Bald Eagle Drive, Marco Island, FL 34145 | Mar. 21, 2018 | 120426
Duval, (FEMA Docket No.: B-1770) | City of Jacksonville, (17-04-1426P) | The Honorable Lenny Curry, Mayor, City of Jacksonville, 117 West Duval Street, Suite 400, Jacksonville, FL 32202 | Development Services Department, 214 North Hogan Street, Room 2100, Jacksonville, FL 32202 | Mar. 12, 2018 | 120077
Hillsborough, (FEMA Docket No.: B-1767) | City of Tampa, (17-04-5064P) | The Honorable Bob Buckhorn, Mayor, City of Tampa, 306 East Jackson Street, Tampa, FL 33602 | Development Services Department, 1400 North Boulevard, Tampa, FL 33607 | Mar. 5, 2018 | 120114
Hillsborough, (FEMA Docket No.: B-1770) | City of Tampa, (17-04-5729P) | The Honorable Bob Buckhorn, Mayor, City of Tampa, 306 East Jackson Street, Tampa, FL 33602 | Development Services Department, 1400 North Boulevard, Tampa, FL 33607 | Mar. 7, 2018 | 120114
Lee, (FEMA Docket No.: B-1767) | City of Sanibel, (17-04-5722P) | The Honorable Kevin Ruane, Mayor, City of Sanibel, 800 Dunlop Road, Sanibel, FL 33957 | Planning and Code Enforcement Department, 800 Dunlop Road, Sanibel, FL 33957 | Feb. 28, 2018 | 120402
Lee, (FEMA Docket No.: B-1767) | City of Sanibel, (17-04-7198P) | The Honorable Kevin Ruane, Mayor, City of Sanibel, 800 Dunlop Road, Sanibel, FL 33957 | Planning and Code Enforcement Department, 800 Dunlop Road, Sanibel, FL 33957 | Mar. 6, 2018 | 120402
Lee, (FEMA Docket No.: B-1770) | Town of Fort Myers Beach, (17-04-5026P) | The Honorable Dennis C. Boback, Mayor, Town of Fort Myers Beach, 2523 Estero Boulevard, Fort Myers Beach, FL 33931 | Community Development Department, 2523 Estero Boulevard, Fort Myers Beach, FL 33931 | Mar. 8, 2018 | 120673
Manatee, (FEMA Docket No.: B-1770) | City of Bradenton, (17-04-8018X) | The Honorable Wayne H. Poston, Mayor, City of Bradenton, 101 Old Main Street West, Bradenton, FL 34205 | City Hall, 101 Old Main Street West, Bradenton, FL 34205 | Mar. 20, 2018 | 120155
Manatee, (FEMA Docket No.: B-1770) | Unincorporated areas of Manatee County, (17-04-8018X) | The Honorable Betsy Benac, Chair, Manatee County Board of Commissioners, P.O. Box 1000, Bradenton, FL 34206 | Manatee County Building and Development Services Department, 1112 Manatee Avenue West, Bradenton, FL 34205 | Mar. 20, 2018 | 120153
Monroe, (FEMA Docket No.: B-1770) | City of Key West, (17-04-6775P) | The Honorable Craig Cates, Mayor, City of Key West, P.O. Box 1409, Key West, FL 33041 | Building Department, 1300 White Street, Key West, FL 33041 | Mar. 5, 2018 | 120168
Monroe, (FEMA Docket No.: B-1770) | City of Key West, (17-04-6810X) | The Honorable Craig Cates, Mayor, City of Key West, P.O. Box 1409, Key West, FL 33041 | Building Department, 1300 White Street, Key West, FL 33041 | Mar. 5, 2018 | 120168
Monroe, (FEMA Docket No.: B-1767) | City of Marathon, (17-04-6938P) | The Honorable Dan Zieg, Mayor, City of Marathon, 9805 Overseas Highway, Marathon, FL 33050 | Planning Department, 9805 Overseas Highway, Marathon, FL 33050 | Mar. 2, 2018 | 120681
Okaloosa, (FEMA Docket No.: B-1803) | City of Destin, (17-04-5431P) | Ms. Carisse LeJeune, Manager, City of Destin, 4200 Indian Bayou Trail, Destin, FL 32541 | Public Services Department, 4200 Indian Bayou Trail, Destin, FL 32541 | Mar. 20, 2018 | 125158
Okaloosa, (FEMA Docket No.: B-1803) | Unincorporated areas of Okaloosa County, (17-04-5431P) | The Honorable Carolyn Ketchel, Chair, Okaloosa County Board of Commissioners, 1250 North Eglin Parkway, Suite 100, Shalimar, FL 32579 | Okaloosa County Information Technology Department, GIS Division, 1250 North Eglin Parkway, Suite 303, Shalimar, FL 32579 | Mar. 20, 2018 | 120173
Pinellas, (FEMA Docket No.: B-1770) | City of Madeira Beach, (17-04-5429P) | The Honorable Maggi Black, Mayor, City of Madeira Beach, 300 Municipal Drive, Madeira Beach, FL 33708 | Community Development Center, 300 Municipal Drive, Madeira Beach, FL 33708 | Mar. 19, 2018 | 125127
Seminole, (FEMA Docket No.: B-1767) | City of Casselberry, (17-04-5310P) | The Honorable Charlene Glancy, Mayor, City of Casselberry, 95 Triplet Lake Drive, Casselberry, FL 32707 | City Hall, 95 Triplet Lake Drive, Casselberry, FL 32707 | Mar. 1, 2018 | 120291
Georgia:
Gwinnett, (FEMA Docket No.: B-1810) | Unincorporated areas of Gwinnett County, (17-04-5175P) | The Honorable Charlotte E. Nash, Chair, Gwinnett County Board of Commissioners, 75 Langley Drive, Lawrenceville, GA 30046 | Gwinnett County Planning and Development Department, 446 West Crogan Street, Lawrenceville, GA 30046 | Mar. 19, 2018 | 130322
Gwinnett, (FEMA Docket No.: B-1810) | Unincorporated areas of Gwinnett County, (17-04-7249P) | The Honorable Charlotte E. Nash, Chair, Gwinnett County Board of Commissioners, 75 Langley Drive, Lawrenceville, GA 30046 | Gwinnett County Planning and Development Department, 446 West Crogan Street, Lawrenceville, GA 30046 | Mar. 22, 2018 | 130322
Jackson, (FEMA Docket No.: B-1803) | Town of Braselton, (17-04-4117P) | The Honorable Bill Orr, Mayor, Town of Braselton, 4986 Highway 53, Braselton, GA 30517 | Public Works Department, 4986 Highway 53, Braselton, GA 30517 | Mar. 15, 2018 | 130343
Jackson, (FEMA Docket No.: B-1803) | Unincorporated areas of Jackson County, (17-04-4117P) | The Honorable Tom Crow, Chairman, Jackson County Board of Commissioners, 67 Athens Street, Jefferson, GA 30549 | Jackson County Public Development Department, 67 Athens Street, Jefferson, GA 30549 | Mar. 15, 2018 | 130345
Louisiana: Tangipahoa, (FEMA Docket No.: B-1810) | Unincorporated areas of Tangipahoa Parish, (17-06-1567P) | The Honorable Robby Miller, President, Tangipahoa Parish, P.O. Box 215, Amite, LA 70422 | Tangipahoa Parish Department of Public Works, 44512 West Pleasant Ridge Road, Hammond, LA 70401 | Mar. 15, 2018 | 220206
Maryland:
Frederick, (FEMA Docket No.: B-1762) | Town of New Market, (17-03-0470P) | The Honorable Winslow F. Burhans, III, Mayor, Town of New Market, P.O. Box 27, New Market, MD 21774 | Town Hall, 39 West Main Street, New Market, MD 21774 | Mar. 14, 2018 | 240088
Montgomery, (FEMA Docket No.: B-1770) | Unincorporated areas of Montgomery County, (17-03-0816P) | The Honorable Isiah Leggett, Montgomery County Executive, 101 Monroe Street, 2nd Floor, Rockville, MD 20850 | Montgomery County Department of Permitting Services, 255 Rockville Pike, 2nd Floor, Rockville, MD 20850 | Mar. 23, 2018 | 240049
Massachusetts: Plymouth, (FEMA Docket No.: B-1810) | Town of Wareham, (17-01-0909P) | Mr. Derek Sullivan, Administrator, Town of Wareham, 54 Marion Road, Wareham, MA 02571 | Town Hall, 54 Marion Road, Wareham, MA 02571 | Mar. 23, 2018 | 255223
North Carolina: Orange, (FEMA Docket No.: B-1803) | Town of Chapel Hill, (17-04-3137P) | The Honorable Pam Hemminger, Mayor, Town of Chapel Hill, 405 Martin Luther King Jr. Boulevard, Chapel Hill, NC 27514 | Stormwater Management Program Department, 208 North Columbia Street, Chapel Hill, NC 27514 | Mar. 13, 2018 | 370180
Oklahoma: Pottawatomie, (FEMA Docket No.: B-1770) | City of Shawnee, (17-06-3304P) | Mr. Justin Erickson, Manager, City of Shawnee, P.O. Box 1448, Shawnee, OK 74801 | City Hall, 16 West 9th Street, Shawnee, OK 74801 | Mar. 12, 2018 | 400178
Pennsylvania:
Berks, (FEMA Docket No.: B-1767) | Borough of Mohnton, (17-03-1918P) | The Honorable Gary D. Kraft, Mayor, Borough of Mohnton, 21 O'Neil Street, Mohnton, PA 19540 | Borough Hall, 21 O'Neil Street, Mohnton, PA 19540 | Feb. 26, 2018 | 420142
Berks, (FEMA Docket No.: B-1767) | Township of Cumru, (17-03-1918P) | The Honorable Ruth O'Leary, President, Township of Cumru Board of Commissioners, 1775 Welsh Road, Mohnton, PA 19540 | Township Hall, 1775 Welsh Road, Mohnton, PA 19540 | Feb. 26, 2018 | 420130
Rhode Island: Providence, (FEMA Docket No.: B-1810) | City of Providence, (17-01-1322P) | The Honorable Jorge O. Elorza, Mayor, City of Providence, 25 Dorrance Street, Providence, RI 02903 | Department of Inspection and Standards, 444 Westminster Street, Providence, RI 02903 | Mar. 16, 2018 | 445406
South Carolina:
Charleston, (FEMA Docket No.: B-1770) | City of Charleston, (17-04-6788P) | The Honorable John J. Tecklenburg, Mayor, City of Charleston, P.O. Box 652, Charleston, SC 29401 | Engineering Division, 2 George Street, Charleston, SC 29401 | Mar. 9, 2018 | 455412
Greenville, (FEMA Docket No.: B-1803) | City of Greenville, (17-04-4211P) | The Honorable Knox White, Mayor, City of Greenville, P.O. Box 2207, Greenville, SC 29602 | Engineering Division, 206 South Main Street, 8th Floor, Greenville, SC 29601 | Mar. 2, 2018 | 450091
Greenville, (FEMA Docket No.: B-1803) | Unincorporated areas of Greenville County, (17-04-4211P) | The Honorable H. G. (Butch) Kirven, Jr., Chairman, Greenville County Council, 301 University Ridge, Suite 2400, Greenville, SC 29601 | Greenville County Planning and Code Compliance Division, 301 University Ridge, Suite 4100, Greenville, SC 29601 | Mar. 2, 2018 | 450089
Richland, (FEMA Docket No.: B-1767) | City of Columbia, (17-04-2846P) | The Honorable Stephen K. Benjamin, Mayor, City of Columbia, P.O. Box 147, Columbia, SC 29217 | Engineering Department, 1136 Washington Street, Columbia, SC 29210 | Mar. 5, 2018 | 450172
Richland, (FEMA Docket No.: B-1767) | Unincorporated areas of Richland County, (17-04-2846P) | The Honorable Joyce Dickerson, Chair, Richland County Council, 1728 Emerald Valley Road, Columbia, SC 29210 | Richland County Development Services Department, 2020 Hampton Street, 1st Floor, Columbia, SC 29204 | Mar. 5, 2018 | 450170
Tennessee: Williamson, (FEMA Docket No.: B-1803) | City of Brentwood, (17-04-1261P) | The Honorable Jill Burgin, Mayor, City of Brentwood, 1211 Knox Valley Drive, Brentwood, TN 37027 | City Hall, 5211 Maryland Way, Brentwood, TN 37027 | Jan. 26, 2018 | 470205
Texas:
Bexar, (FEMA Docket No.: B-1770) | City of San Antonio, (17-06-0477P) | The Honorable Ron Nirenberg, Mayor, City of San Antonio, P.O. Box 839966, San Antonio, TX 78283 | Transportation and Capital Improvements Department, Storm Water Division, 1901 South Alamo Street, 2nd Floor, San Antonio, TX 78204 | Mar. 6, 2018 | 480045
Bexar, (FEMA Docket No.: B-1770) | City of San Antonio, (17-06-1913P) | The Honorable Ron Nirenberg, Mayor, City of San Antonio, P.O. Box 839966, San Antonio, TX 78283 | Transportation and Capital Improvements Department, Storm Water Division, 1901 South Alamo Street, 2nd Floor, San Antonio, TX 78204 | Mar. 14, 2018 | 480045
Bexar, (FEMA Docket No.: B-1770) | City of San Antonio, (17-06-2951P) | The Honorable Ron Nirenberg, Mayor, City of San Antonio, P.O. Box 839966, San Antonio, TX 78283 | Transportation and Capital Improvements Department, Storm Water Division, 1901 South Alamo Street, 2nd Floor, San Antonio, TX 78204 | Mar. 20, 2018 | 480045
Collin, (FEMA Docket No.: B-1767) | City of McKinney, (17-06-2044P) | The Honorable George Fuller, Mayor, City of McKinney, P.O. Box 517, McKinney, TX 75070 | Engineering Department, 221 North Tennessee Street, McKinney, TX 75069 | Feb. 26, 2018 | 480135
Collin, (FEMA Docket No.: B-1767) | City of Melissa, (17-06-2044P) | The Honorable Reed Greer, Mayor, City of Melissa, 3411 Barker Avenue, Melissa, TX 75454 | City Hall, 3411 Barker Avenue, Melissa, TX 75454 | Feb. 26, 2018 | 481626
Collin, (FEMA Docket No.: B-1767) | Unincorporated areas of Collin County, (17-06-2044P) | The Honorable Keith Self, Collin County Judge, 2300 Bloomdale Road, Suite 4192, McKinney, TX 75071 | Collin County Engineering Department, 4690 Community Avenue, Suite 200, McKinney, TX 75071 | Feb. 26, 2018 | 480130
Denton, (FEMA Docket No.: B-1770) | City of Frisco, (17-06-3544P) | The Honorable Jeff Cheney, Mayor, City of Frisco, 6101 Frisco Square Boulevard, Frisco, TX 75034 | Engineering Services Department, 6101 Frisco Square Boulevard, 3rd Floor, Frisco, TX 75034 | Mar. 12, 2018 | 480134
Denton, (FEMA Docket No.: B-1770) | Town of Flower Mound, (17-06-3619P) | The Honorable Thomas Hayden, Mayor, Town of Flower Mound, 2121 Cross Timbers Road, Flower Mound, TX 75028 | Engineering Department, 2121 Cross Timbers Road, Flower Mound, TX 75028 | Mar. 14, 2018 | 480777
Tarrant, (FEMA Docket No.: B-1803) | City of Fort Worth, (17-06-2140P) | The Honorable Betsy Price, Mayor, City of Fort Worth, 200 Texas Street, Fort Worth, TX 76102 | Transportation and Public Works Department, 200 Texas Street, Fort Worth, TX 76102 | Mar. 23, 2018
Tarrant, (FEMA Docket No.: B-1770) | City of Fort Worth, (17-06-2291P) | The Honorable Betsy Price, Mayor, City of Fort Worth, 200 Texas Street, Fort Worth, TX 76102 | Transportation and Public Works Department, 200 Texas Street, Fort Worth, TX 76102 | Mar. 8, 2018 | 480596
Tarrant, (FEMA Docket No.: B-1770) | Unincorporated areas of Tarrant County, (17-06-3156P) | The Honorable B. Glen Whitley, Tarrant County Judge, 100 East Weatherford Street, Suite 501, Fort Worth, TX 76196 | Tarrant County Transportation Department, 100 East Weatherford Street, Suite 401, Fort Worth, TX 76196 | Mar. 12, 2018 | 480582
Travis, (FEMA Docket No.: B-1770) | Unincorporated areas of Travis County, (17-06-1733P) | The Honorable Sarah Eckhardt, Travis County Judge, P.O. Box 1748, Austin, TX 78767 | Travis County Planning Department, 700 Lavaca Street, 5th Floor, Austin, TX 78767 | Mar. 19, 2018 | 481026
Virginia:
Fauquier, (FEMA Docket No.: B-1770) | Unincorporated areas of Fauquier County, (17-03-2312P) | The Honorable Richard R. Gerhardt, Chairman, Fauquier County Board of Supervisors, 10 Hotel Street, Suite 208, Warrenton, VA 20186 | Fauquier County Circuit Court, 29 Ashby Street, 3rd Floor, Warrenton, VA 20186 | Mar. 22, 2018 | 510055
Loudoun, (FEMA Docket No.: B-1767) | Town of Lovettsville, (17-03-1213P) | The Honorable Robert Zoldos II, Mayor, Town of Lovettsville, P.O. Box 209, Lovettsville, VA 20180 | Department of Public Works, 6 East Pennsylvania Avenue, Lovettsville, VA 20180 | Mar. 2, 2018 | 510259
Loudoun, (FEMA Docket No.: B-1767) | Unincorporated areas of Loudoun County, (17-03-1213P) | The Honorable Phyllis J. Randall, Chair, Loudoun County Board of Supervisors, P.O. Box 7000, Leesburg, VA 20177 | Loudoun County Department of Public Works, 1 Harrison Street, Leesburg, VA 20177 | Mar. 2, 2018 | 510090
Wyoming: Teton, (FEMA Docket No.: B-1770) | Town of Jackson, (17-08-1603P) | The Honorable Pete Muldoon, Mayor, Town of Jackson, 150 East Pearl Street, Jackson, WY 83001 | Engineering Department, 450 West Snow King Avenue, Jackson, WY 83001 | Mar. 8, 2018 | 560052

[FR Doc. 2018-10152 Filed 5-11-18; 8:45 am]

BILLING CODE 9110-12-P